DEPARTMENT OF ENERGY

Federal Energy Regulatory Commission

[Docket No. RP00-344-002]

Dominion Transmission, Inc.; Notice of Compliance Filing

October 2, 2001.

Take notice that on September 27, 2001, Dominion Transmission, Inc. (DTI) tendered for filing to be part of its FERC Gas Tariff, Third Revised Volume No. 1, the revised tariff sheets listed below, in order to implement the “Order Conditionally Accepting Compliance Filing” issued in the captioned proceedings on September 12, 2001.

First Revised Sheet No. 1185

First Revised Sheet No. 1502

As described in DTI's filing, these two tariff sheets are required to comply with the conditions imposed on DTI's July 31, 2001 compliance filing in these proceedings. In addition, DTI submits a motion to implement effective on September 1, 2001, all of the tariff sheets included in that compliance filing, which were listed on Appendix A of that filing and are repeated in the Appendix of this filing, with one change: the inclusion of revised sheet No. 1502. DTI proposes an effective date of November 1, 2001, for new First Revised Sheet No. 1185: a sheet that was not modified in DTI's previous compliance filing. That sheet implements the Commission's refined discounting policy, as required by the Commission.

DTI states that copies of its filing have been served on parties on the service list in these proceedings.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25206 Filed 10-5-01; 8:45 am]

BILLING CODE 6717-01-P